FEDERAL COMMUNICATIONS COMMISSION

47 CFR Part 74

[GN Docket No. 14-166, ET Docket No. 14-165, GN Docket No. 12-268, WT Docket Nos. 08-166, 08-167, and ET Docket No. 10-24: FCC 17-95]

Promoting Spectrum Access for Wireless Microphone Operations

AGENCY: Federal Communications Commission.

ACTION: Final rule; announcement of effective date.

SUMMARY: In this document, the Commission announces that the Office of Management and Budget (OMB) has approved, for a period of three years, the new information collection associated with the Commission's Promoting Spectrum Access for Wireless Microphone Operations, Order on Reconsideration, Further Notice of Proposed Rulemaking. This document is consistent with the Order, which stated that the Commission would publish a document in the Federal Register announcing the effective date of those rules.

DATES: The amendments to 47 CFR 74.803(c) and (d) published at 82 FR 41549, September 1, 2017, are effective May 22, 2018.

FOR FURTHER INFORMATION CONTACT: Paul Murray, Office of Engineering and Technology Bureau, at (202) 418-0688, or email: Paul.Murray@fcc.gov.

For additional information concerning the Paperwork Reduction Act information collection requirements, contact Nicole Ongele at (202) 418-2991 or nicole.ongele@fcc.gov.

SUPPLEMENTARY INFORMATION: This document announces that, on May 1, 2018, OMB approved, for a period of three years, the information collection requirements relating to the consumer disclosure and labeling rules contained in the Commission's Wireless Microphones Order on Reconsideration and Further Notice of Proposed Rulemaking, FCC 17-95 (82 FR 41549, September 1, 2017). The OMB Control Number is 3060-1253. The Commission publishes this document as an announcement of the effective date of the specific § 74.803(c) and (d) rules. If you have any comments on the burden estimates listed below, or how the Commission can improve the collections and reduce any burdens caused thereby, please contact Nicole Ongele, Federal Communications Commission, Room 1-A620, 445 12th Street SW, Washington, DC 20554. Please include the OMB Control Number, 3060-1253, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 1, 2018, for the information collection requirements contained in the modifications to the Commission's rule in 47 CFR part 74. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1253.

The foregoing notice is required by the Paperwork Reduction Act of 1995, Public Law 10413, October 1, 1995, and 44 U.S.C. 3507.

The total annual reporting burdens and costs for the respondents are as follows:

OMB Control Number: 3060-1253.

OMB Approval Date: May 1, 2018.

OMB Expiration Date: May 31, 2021.

Title: Sections 74.803(c) and (d), Wireless Microphones.

Form Number: N/A.

Respondents: Business or other for-profit, and Not-for-profit institutions.

Number of Respondents and Responses: 215 respondents; 2,365 responses.

Estimated Time per Response: 22 hours.

Frequency of Response: On occasion reporting requirement.

Obligation to Respond: Required to obtain or retain benefits. The statutory authority for this information collection is contained in sections 1, 4(i), 4(j), 7(a) 301, 302(a), 303(f), 307(e), and 332 of the Communications Act of 1934, as amended, 47 U.S.C. 151, 154(i), 154(j), 157(a), 301, 302(a), 303(f), 307(e), and 332.

Total Annual Burden: 2,490 hours.

Total Annual Cost: $166,563.

Privacy Act Impact Assessment: No impact(s).

Nature and Extent of Confidentiality: No information is requested that would require assurance of confidentiality.

Needs and Uses: On July 14, 2017 the Federal Communications Commission released an Order on Reconsideration and Further Notice of Proposed Rulemaking, Promoting Spectrum Access for Wireless Microphone Operations; Amendment of Part 15 of the Commission's Rules for Unlicensed Operations in the Television Bands, Repurposed 600 MHz Band, 600 MHz Guard Bands and Duplex Gap, and Channel 37; Amendment of Part 74 of the Commission's Rules for Low Power Auxiliary Stations in the Repurposed 600 MHz Band and 600 MHz Duplex Gap; Expanding the Economic and Innovation Opportunities of Spectrum Through Incentive Auctions; Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, Order on Reconsideration and Further Notice of Proposed Rulemaking, GN Docket No. 14-166, ET Docket No. 14-165, GN Docket No. 12-268, WT Docket Nos. 08-166, 08-167, and ET Docket No. 10-24, in which the Commission permits certain qualifying professional theaters, music, and performing arts organizations to obtain a part 74 license that would allow them as licensees to obtain such interference protection in the TV bands and, when needed, also to operate in other spectrum bands available for licensed wireless microphone operations under part 74. In addition, with respect to licensed wireless microphone operations in other frequency bands, revisions to the channelization plan for licensed wireless microphone operations in the 169-172 MHz band, generally affirm but provide clarifications regarding the 30-megahertz limit placed on licensed wireless microphone users' access to spectrum in the 1435-1525 MHz band, and clarify coordination requirements and operational limitations for licensed wireless microphone operations in the 941.5-944 MHz band. With these various revisions and clarifications, the Commission finalized the technical rules for wireless microphone operations and, the Commission promotes our goal of accommodating wireless microphone users' needs through access to spectrum resources following the incentive auction and reconfiguration of the TV bands.

Federal Communications Commission.
Marlene Dortch,
Secretary.

[FR Doc. 2018-10811 Filed 5-21-18; 8:45 am]

BILLING CODE 6712-01-P